FEDERAL COMMUNICATIONS COMMISSION

[Report No. 2461]

Applications for Review of Action In Rulemaking Proceeding

January 31, 2000.

Applications for Review have been filed in the Commission's rulemaking proceeding listed in this Public Notice and published pursuant to 47 CFR 1.115(a). The full text of these documents are available for viewing and copying in Room CY-A257, 445 12th Street, SW., Washington, DC or may be purchased from the Commission's copy contractor, ITS, Inc. (202) 857-3800. Oppositions to these applications must be filed by February 22, 2001. See section 97.15(b) of the Commission's rules (47 CFR 97.15(b)). Replies to an opposition must be filed within 10 days after the time for filing oppositions have expired.

Subject: Modification and Clarification of Policies and Procedures Governing Siting and Maintenance of Amateur Radio Antennas and Support Structures, and Amendment of Section 97.15 of the Rules Governing the Amateur Radio Service (RM-8763).

Number of Petitions Filed: 2.

Federal Communications Commission.
Magalie Roman Salas,
Secretary.

[FR Doc. 01-3116 Filed 2-6-01; 8:45 am]

BILLING CODE 6712-01-M